SURFACE TRANSPORTATION BOARD

[Docket No. NOR 42175]

Complaint and Petition of the National Railroad Passenger Corp.; Substandard Performance of Amtrak's Sunset Limited Trains 1 and 2

AGENCY: Surface Transportation Board.

ACTION: Notice of filing schedule; opportunity for submissions by non-parties.

SUMMARY: The Surface Transportation Board (Board) has issued a decision in its investigation of the causes of substandard on-time performance of Amtrak's Sunset Limited that, among other things, establishes a procedural schedule for the filing of pleadings and provides guidance on subjects to be addressed in those pleadings. Under the procedural schedule, non-parties will be permitted to submit replies to the opening briefs filed by Amtrak and railroad parties' replies.

DATES: Amtrak's opening statement is due by October 7, 2024. Railroad party replies to Amtrak's opening statement are due by December 23, 2024. Non-party replies are due January 22, 2025. Railroad party rebuttals to non-party replies are due February 21, 2025. Amtrak's rebuttal to all replies is due by February 21, 2025.

ADDRESSES: All filings must be filed with the Surface Transportation Board either via e-filing on the Board's website or in writing addressed to 395 E Street SW, Washington, DC 20423-0001. Parties and non-parties submitting filings must reference Docket No. NOR 42175 and comply with the Board's service requirements set forth at 49 CFR 1104.12. Information on the Board's service requirements can be viewed on the Board's website at https://www.stb.gov/resources/need-assistance/how-to-file/.

FOR FURTHER INFORMATION CONTACT: Brian O'Boyle (202) 245-0364. If you require an accommodation under the Americans with Disabilities Act, please call (202) 245-0245.

SUPPLEMENTARY INFORMATION: Additional information is contained in the Board's decision served on August 19, 2024, which is available at www.stb.gov.

Authority: 49 U.S.C. 1321, 24308(f).

Decided: August 19, 2024.
By the Board, Board Members Fuchs, Hedlund, Primus, and Schultz.
Jeffrey Herzig,
Clearance Clerk.

[FR Doc. 2024-18905 Filed 8-22-24; 8:45 am]

BILLING CODE 4915-01-P